DEPARTMENT OF THE INTERIOR

National Park Service

[N6913; NPS-WASO-NAGPRA-NPS0041985; PPWOCRADN0-PCU00RP14.R50000]

Notice of Inventory Completion: Office of the State Archaeologist, University of Iowa, Iowa City, IA

AGENCY: National Park Service, Interior.

ACTION: Notice.

SUMMARY: In accordance with the Native American Graves Protection and Repatriation Act (NAGPRA), the Office of the State Archaeologist Bioarchaeology Program (OSA BP) has completed an inventory of human remains and has determined that there is a cultural affiliation between the human remains and Indian Tribes or Native Hawaiian organizations in this notice.

DATES: Repatriation of the human remains in this notice may occur on or after March 13, 2026.

ADDRESSES: Send written requests for repatriation of the human remains in this notice to Dr. Lara Noldner, Office of the State Archaeologist Bioarchaeology Program, University of Iowa, 700 S Clinton Street, Iowa City, IA 52242, email lara-noldner@uiowa.edu.

SUPPLEMENTARY INFORMATION: This notice is published as part of the National Park Service's administrative responsibilities under NAGPRA. The determinations in this notice are the sole responsibility of the OSA BP, and additional information on the determinations in this notice, including the results of consultation, can be found in the inventory or related records. The National Park Service is not responsible for the determinations in this notice.

Abstract of Information Available

Human remains representing, at least, one individual have been reasonably identified. No associated funerary objects are present. The human remains were collected from Aztec Ruins National Monument at an unknown date prior to 1964 and donated the University of Northern Iowa (UNI), before being transferred to the OSA-BP in March of 2023. Handwritten labels accompany the two elements. A partial cranium (UNI catalogue #: 280-2) is labeled: “Skull Brought from Aztec Ruins, New Mexico. Donated by E.A. Snyder, Cedar Falls, Iowa. 700-3,000 years old”. A right femur (UNI accession/catalogue #: 00.5.28) is labeled: “Human femur from Aztec Ruins New Mexico. 700-3,000 years old.”. There is no documentation regarding the excavation or burial context of the human remains nor indication of how the date ranges for the elements were determined. The human remains are from a burial context, exhibit preservation typical of the desert Southwest, and are most likely of Puebloan ancestry. A middle-aged adult male individual is represented (BP3774). No treatments with hazardous chemicals are evident.

Cultural Affiliation

Based on the information available and the results of consultation, cultural affiliation is reasonably identified by the geographical location and acquisition history of the human remains in this notice.

Determinations

The OSA BP has determined that:

• The human remains described in this notice represent the physical remains of one individual of Native American ancestry.

• There is a reasonable connection between the human remains described in this notice and the Hopi Tribe of Arizona; Jicarilla Apache Nation, New Mexico; Mescalero Apache Tribe of the Mescalero Reservation, New Mexico; Navajo Nation, Arizona, New Mexico, & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo; Southern Ute Indian Tribe of the Southern Ute Reservation, Colorado; Ute Mountain Ute Tribe; Ysleta del Sur Pueblo; and the Zuni Tribe of the Zuni Reservation, New Mexico.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after March 13, 2026. If competing requests for repatriation are received, the OSA BP must determine the most appropriate requestor prior to repatriation. Requests for joint repatriation of the human remains are considered a single request and not competing requests. The OSA BP is responsible for sending a copy of this notice to the Indian Tribes and Native Hawaiian organizations identified in this notice.

Authority: Native American Graves Protection and Repatriation Act, 25 U.S.C. 3003, and the implementing regulations, 43 CFR 10.10.

Dated: February 4, 2026.
Melanie O'Brien,
Manager, National NAGPRA Program.

[FR Doc. 2026-02705 Filed 2-10-26; 8:45 am]

BILLING CODE 4312-52-P